DEPARTMENT OF THE INTERIOR

Office of Surface Mining Reclamation and Enforcement

[S1D1S SS08011000 SX064A000 222S180110; S2D2S SS08011000 SX064A000 22XS501520]

Notice of Intent To Prepare an Environmental Impact Statement for Navajo Transitional Energy Company's Spring Creek Mine Federal Mining Plan Modification for Federal Coal Lease MTM-94378

AGENCY: Office of Surface Mining Reclamation and Enforcement, Interior.

ACTION: Notice of intent to prepare an environmental impact statement.

SUMMARY: The Office of Surface Mining Reclamation and Enforcement (OSMRE) is publishing this notice to announce that, consistent with direction from the U.S. District Court of Montana, it will prepare an Environmental Impact Statement (EIS) for Navajo Transitional Energy Company's (NTEC) Federal mining plan modification for Federal Coal Lease MTM-94378 (the Project). With this notice, OSMRE also announces that it will hold a public scoping meeting, including a 30-day public scoping period to receive comments on the environmental issues that OSMRE should analyze in this EIS. The Spring Creek Mine (SCM) is located in Big Horn County, Montana, approximately 32 miles from Sheridan, Wyoming. The SCM started operation in 1974 and is expected to continue to operate until at least 2025 under the current approved mining plan. The proposed Project would allow 184.1 acres of additional surface disturbance and recovery of an additional 51.5 million tons (Mt) of Federal coal. Under the proposed Project, SCM would continue to mine approximately 13-18 million tons per year (Mtpy) and the production would extend for an additional 3-4 years, depending on production rates. OSMRE plans to analyze the environmental effects of an annual production rate of 18 Mtpy for 4 additional years of production, which is the maximum estimated future annual production rate. This rate is below the maximum permitted production rate of 30 Mtpy established by the Montana Department of Environmental Quality (MDEQ)-Air Quality Division (AQD) Air Quality Permit MAQP #1120-12.

DATES: OSMRE requests comments concerning the scope of the analysis in the EIS, and identification of relevant information, studies, and analyses. All comments must be received April 18, 2022. The public scoping meeting will be held via Zoom from 4:00-6:00 p.m. MST on March 31, 2022. Please register to attend and provide verbal comments during the Zoom public scoping meeting at the following address: (https://www.osmre.gov/laws-and-regulations/nepa/projects). There will also be a telephone number provided upon registration.

ADDRESSES:

You may submit comments related to the Project by any of the following methods:

• Email: SCM_LBA1_EIS@wwcengineering.com.

• Mail: ATTN: Spring Creek Mining Plan Modification EIS, C/O: Logan Sholar, OSMRE Western Regions 5, 7-11, P.O. Box 25065, Lakewood, CO 80225-0065.

FOR FURTHER INFORMATION CONTACT: Logan Sholar, NEPA Project Manager; telephone (303) 236-6038; email: lsholar@osmre.gov or at the address and email provided in the ADDRESSES section.

Individuals who use telecommunication devices for the deaf (TDD) may call the Federal Information Relay Service (FIRS) at 1-800-877-8339 between 8 a.m. and 8 p.m., Eastern Time, Monday through Friday.

SUPPLEMENTARY INFORMATION: OSMRE Regions 5, 7-11 will prepare an EIS for SCM's mining plan modification to address issues identified by the U.S. District Court for the District of Montana (the Court) in a 2021 ruling related to the environmental analysis previously prepared by OSMRE for Federal Coal Lease MTM 94378. In accordance with the Mineral Leasing Act of 1920, the Department of the Interior Assistant Secretary for Land and Minerals Management (ASLM) must approve, disapprove, or approve the Project with conditions because the Project contains leased Federal coal. The SCM is operated by NTEC under State Mine Permit C1979012, issued by MDEQ, in accordance with its regulatory authority.

On February 3, 2021, the Court held that OSMRE failed to adequately examine the impacts of coal transportation, non-greenhouse gas emissions, and greenhouse gas emissions in preparing their 2012 Environmental Assessment and recommending approval of the mining plan modification for Federal Coal Lease MTM-94378. The Court deferred vacatur of the mining plan modification decision for 240 days and is allowing OSMRE to conduct remedial NEPA analysis. On August 5, 2021, OSMRE notified the Court that it would prepare an EIS and requested an extension of the deferred vacatur until April 1, 2023, which the Court granted.

Purpose and Need for the Proposed Action:

The purpose of this EIS is to respond to the Court's ruling and analyze the effects of coal transportation and greenhouse and non-greenhouse gas emissions resulting from the proposed Project. The EIS will also consider any new information available in analyzing potential impacts to other resources in the environment that could result from the Project.

The Project is needed to allow NTEC, the current mine operator, the opportunity to exercise its valid existing rights for Federal Coal Lease MTM-94378 granted by the Bureau of Land Management.

Preliminary Proposed Project

The proposed Project would allow 184.1 acres of additional surface disturbance and recovery of an additional 51.5 Mt of federal coal. SCM started operation in 1974 and is expected to continue to operate until approximately 2025 under the current, approved mining plan. The proposed Project would extend the life of the mine for 3-4 years, allowing an additional 13-18 Mtpy, depending on production rates.

Summary of Expected Impacts

The Agency has completed internal scoping and identified preliminary analysis issues that will be evaluated in the EIS. Reasonably foreseeable effects of mining Federal coal will be evaluated for the following resources:

• Air Quality (measured as concentration of criteria air pollutants regulated under the National Ambient Air Quality Standards, Hazardous Air Pollutants, and Air Quality Related Values such as visibility (haze) and atmospheric deposition)

• Combustion of greenhouse gases as it relates to climate change measured in terms of carbon dioxide equivalent for both 20-year and 100-year global warming potentials

• Surface water and groundwater quality and quantity

• Socio-economic effects, including changes to state and local taxes, royalties, fees, lease bids and bonuses, as well as payroll benefits as well as effects to Environmental Justice populations

• Federally listed threatened/endangered species

• Geology

• Soils

• Cultural Resources

• Visual Resources

• Wildlife

Anticipated Permits and Authorizations

None at this time.

Schedule for the Decision-Making Process

The Department plans to issue the Record of Decision on or before April 1, 2023.

Public Scoping Process

All public scoping comments must be submitted by email or by mail to the addresses listed under ADDRESSES. Before including your address, phone number, email address, or other personal identifying information in your comment, you should be aware that your entire comment—including your personal identifying information—may be made public at any time. While you may request in your comment to withhold your personal identifying information from public review, OSMRE cannot guarantee that this will occur.

The Project web page located at (https://www.osmre.gov/laws-and-regulations/nepa/projects) will include the description of the Project as submitted by NTEC, a map of the proposed mining plan modification, and information about how to submit public comment on issues or concerns related to the Project.

OSMRE will review and consider all public scoping comments received and prepare a Scoping Summary Report. The Scoping Summary Report will be used by OSMRE to identify issues to be included in the EIS analysis, resources and issues that can be dismissed from detailed analysis because they are not present or not affected by the Project, and potential alternatives to be analyzed.

Request for Identification of Potential Alternatives, Information, and Analyses Relevant to the Proposed Action

In addition to comments concerning the scope of the EIS analysis, commenters are encouraged to identify relevant information, studies, and analyses that would assist the Department in making its decision and identify potential alternatives to the Project.

Lead and Cooperating Agencies

OSMRE is the lead agency for this EIS. The BLM and MDEQ have been invited to be cooperating agencies on the OSMRE EIS. Other federal agencies, state, tribal, and local governments with jurisdiction by law or special expertise that are interested in participating in the preparation of this EIS should contact the above mentioned NEPA Project Manager.

Decision Maker

Assistant Secretary for Lands and Minerals Management.

Nature of Decision To Be Made

Informed by the EIS analysis, OSMRE will make a recommendation to the ASLM to approve, disapprove, or approve with conditions the mining plan modification for Federal Coal Lease MTM-94378. The ASLM will consider OSMRE's recommendation when deciding to approve, disapprove, or approve with conditions the mining plan modification for Federal Coal Lease MTM-94378. OSMRE's recommendation to the ASLM is based, at a minimum, on the documentation specified at 30 CFR 746.13.

David Berry,
Regional Director, Interior Regions 5, 7-11.

[FR Doc. 2022-05623 Filed 3-16-22; 8:45 am]

BILLING CODE 4310-05-P